DEPARTMENT OF TRANSPORTATION

Federal Railroad Administration

[Docket Number FRA-2019-0064]

Petition for Amendment of Waiver of Compliance

Under part 211 of title 49 Code of Federal Regulations (CFR), this document provides the public notice that by letters dated February 28, 2024, and May 13, 2024, BNSF Railway (BNSF) petitioned the Federal Railroad Administration (FRA) for an amendment of a waiver of compliance from certain provisions of the Federal railroad safety regulations contained at 49 CFR part 232 (Brake System Safety Standards for Freight and Other Non-Passenger Trains and Equipment; End-of-Train Devices). The relevant Docket Number is FRA-2019-0064.

Specifically, BNSF requests to add a location to its existing waiver from § 232.205(b)(2), Single car air brake tests, which permits BNSF to change the repair track designation (per § 232.303, General requirements) so that the track on which in-train wheel replacements are performed is not designated a shop or repair track. Accordingly, a single car air brake test (SCABT) is not required on each car undergoing an in-train wheelset replacement, but BNSF proposes to perform a SCABT on any car with an FRA-condemnable wheel defect as defined in § 232.303(b)(5). The relief currently applies to specific yard tracks for wheelset replacement at several BNSF facilities, and with this request, BNSF seeks to add the Missoula, Montana, location to the program.

In support of its request, BNSF states that this program “reduces the number of wheels in revenue service with elevated KIP impact readings contributing to the safety and longevity of [the] rail infrastructure.” Further, BNSF states that the program “enhances safety by improving the reliability of the rolling stock and simultaneously reducing potential causes of surface rail defects that can elevate the risks of derailments” from higher KIP wheels.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by September 16, 2024 will be considered by FRA before final action is taken. Comments received after that date will be considered if practicable.

Anyone can search the electronic form of any written communications and comments received into any of the Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-15488 Filed 7-15-24; 8:45 am]

BILLING CODE 4910-06-P